DEPARTMENT OF HOUSING AND URBAN DEVELOPMENT

[Docket No. FR-4903-N-30]

Notice of Submission of Proposed Information Collection to OMB; Enforcement of Federal Labor Standards

AGENCY: Office of the Chief Information Officer.

ACTION: Notice.

SUMMARY: The proposed information collection requirement described below has been submitted to the Office of Management and Budget (OMB) for review, as required by the Paperwork Reduction Act. The Department is soliciting public comments on the subject proposal.

HUD is requesting approval to collect information necessary to fulfill its obligation to enforce Federal labor standards provisions, especially to act upon allegation of labor standards violations.

DATES: Comments Due Date: May 24, 2004.

ADDRESSES: Interest persons are invited to submit comments regarding this proposal. Comments should refer to the proposal by name and/or OMB approval Number (2501-Pending) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the U.S. Department of Housing and Urban Development (HUD) has submitted to OMB, for emergency processing, a survey instrument to obtain information from faith based and community organizations on their likelihood and success at applying for various funding programs. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Enforcement of Federal Labor Standards.

OMB Approval Number: 2501-Pending.

Form Numbers: HUD-4730k HUD-4730-E, HUD-4731.

Description of the Need for the Information and Its Proposed Used:

HUD is requesting approval to collect information necessary to fulfill its obligation to enforce Federal labor standards provisions, especially to act upon allegation of labor standards violations.

Respondents: Individuals or households, Business or other for-profit, State, local, or tribal government.

Frequency of Submission: On Occasion.

| Number of respondents | Annual responses | × | Hours per response | = | Burden hours
Reporting Burden | 2,500 | 1 |  | 0.5 |  | 1,250

Total Estimated Burden Hours: 1,250.

Status: Existing collection in use without an OMB control number.

Authority: Section 3507 of the Paperwork Reduction Act of 1995, 44 U.S.C. 35, as amended.

Dated: April 16, 2004.
Wayne Eddins,
Departmental PRA Compliance Officer, Office of the Chief Information Officer.

[FR Doc. 04-9081 Filed 4-21-04; 8:45 am]

BILLING CODE 4210-72-M